FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Application for Federal Deposit Insurance.

Form Number: 6200/05.

OMB Number: 3064-0001.

Annual Burden:

Estimated annual number of respondents: 300.

Estimated time per response: 250 hours.

Total annual burden hours: 75,000 hours.

Expiration Date of OMB Clearance: July 31, 2000.

Supplementary Information: The Federal Deposit Insurance Act requires a proposed bank or savings institution to apply to the FDIC in order to obtain federal deposit insurance. The form provides the information necessary for the FDIC to make a determination.

2. Type of Review: Renewal of a currently approved collection.

Title: Foreign Branch Report of Condition.

Form Number: FFIEC 030.

OMB Number: 3064-0011.

Annual Burden:

Estimated annual number of respondents: 36.

Estimated time per response: 3.9 hours.

Total annual burden hours: 140.40 hours.

Expiration Date of OMB Clearance: July 31, 2000.

Supplementary Information: The Foreign Branch Report of Condition, Form FFIEC 030, contains asset and liability information along with data on certain off balance sheet items for foreign branches of insured banks.

3. Type of Review: Renewal of a currently approved collection.

Title: Application Pursuant to Section 19 of the Federal Deposit Insurance Act.

Form Number: 6710/07.

OMB Number: 3064-0018.

Annual Burden:

Estimated annual number of respondents: 75.

Estimated time per response: 16 hours.

Total annual burden hours: 1,200 hours.

Expiration Date of OMB Clearance: July 31, 2000.

Supplementary Information: Section 19 of the Federal Deposit Insurance Act requires insured depository institutions to obtain the FDIC's consent prior to any participation in their affairs by a person convicted of crimes involving dishonesty or breach of trust. Form 6710/07 is the vehicle for requesting FDIC consent.

4. Type of Review: Renewal of a currently approved collection.

Title: Fair Housing Lending Monitoring System.

OMB Number: 3064-0046.

Annual Burden:

Estimated annual number of respondents: 2,000.

Estimated annual number of applications: 1,000,000.

Estimated time per response: 5 minutes.

Total annual burden hours: 83,333 hours.

Expiration of OMB Clearance: July 31, 2000.

Supplementary Information: In order to permit the FDIC to detect discrimination in residential mortgage lending, certain insured state nonmember banks are required by FDIC regulation 12 CFR 338 to maintain various data on home loan applicants.

5. Type of Review: Renewal of a currently approved collection.

Title: Public Disclosure by Banks.

OMB Number: 3064-0090.

Annual Burden:

Estimated annual number of respondents: 5,742.

Estimated time per response: .5 hours.

Total annual burden hours: 2,871 hours.

Expiration of OMB Clearance: July 31, 2000.

Supplementary Information: 12 CFR 350 requires a bank to notify the general public, and in some instances shareholders, that disclosure statements are available upon request. Required disclosures consist of financial reports for the current and preceding year which can be copied directly from the year-end Call Report.

6. Type of Review: Renewal of a currently approved collection.

Title: Foreign Banks.

OMB Number: 3064-0114.

Annual Burden:

Estimated annual number of respondents: 164.

Estimated time per response: varies from 0.25 hours to 120 hours with an average of 14.2 hours.

Total annual burden hours: 2,336 hours.

Expiration of OMB Clearance: July 31, 2000.

Supplementary Information: The collection of information consists of (a) applications to operate as a noninsured state-licensed branch of a foreign bank; (b) applications from an insured state-licensed branch of a foreign bank to conduct activities which are not permissible for a federally-licensed branch; (c) internal recordkeeping by insured branches of foreign banks; and (d) reporting requirements relating to an insured branch's pledge of assets to the FDIC.

7. Type of Review: Renewal of a currently approved collection.

Title: Certification of Eligibility Under the Affordable Housing Program.

OMB Number: 3064-0116.

Annual Burden:

Estimated annual number of respondents: 120.

Estimated time per response: 1 hour.

Total annual burden hours: 120 hours.

Expiration Date of OMB Clearance: July 31, 2000.

Supplementary Information: The collection of information certifies income eligibility under the affordable housing program. This certification assists the FDIC in determining an individual's eligibility for purchasing affordable housing properties from the FDIC.

8. Type of Review: Renewal of a currently approved collection.

Title: Mutual-to-Stock Conversions of State Savings Banks.

OMB Number: 3064-0117.

Annual Burden:

Estimated annual number of respondents: 20.

Estimated time per response: 50 hours.

Total annual burden hours: 1000 hours.

Expiration of OMB Clearance: July 31, 2000.

Supplementry Information: 12 CFR 303.15 and 333.4 require state savings banks that are not members of the Federal Reserve System to file with the FDIC a notice of intent to convert to stock form and provide copies of documents filed with state and federal banking and or securities regulators in connection with the proposed conversion.

OMB Reviewer: Alexander T. Hunt, (202) 395-7860, Office of Management and Budget, Office of Information and Regulatory Affairs, Washington, D.C. 20503.

FDIC Contact: Tamara R. Manly, (202) 898-7453, Office of the Executive Secretary, Room F-4058, Federal Deposit Insurance Corporation, 550 17th Street N.W., Washington, D.C. 20429.

Comments: Comments on these collections of information are welcome and should be submitted on or before [insert date 30 days after date of publication in the Federal Register] to both the OMB reviewer and the FDIC contact listed above.

ADDRESSES: Information about this submission, including copies of the proposed collections of information, may be obtained by calling or writing the FDIC contact listed above.

Dated: May 23, 2000.
Federal Deposit Insurance Corporation.
Robert E. Feldman,
Executive Secretary.

[FR Doc. 00-13428 Filed 5-26-00; 8:45 am]

BILLING CODE 6714-01-P